OFFICE OF THE UNITED STATES TRADE REPRESENTATIVE

[Docket No. WTO/DS-320]

WTO Dispute Settlement Proceeding Regarding United States—Continued Suspension of Obligations in the EC—Hormones Dispute

AGENCY: Office of the United States Trade Representative.

ACTION: Notice; request for comments.

SUMMARY: The Office of the United States Trade Representative (“USTR”) is providing notice that on January 13, 2005, the United States received from the European Communities (“EC”) a request for the establishment of a panel under the Marrakesh Agreement Establishing the World Trade Organization (“WTO Agreement”) regarding the U.S. suspension of obligations to the EC in the WTO dispute European Communities—Measures Concerning Meat and Meat Products (Hormones). The EC asserts that it has put into force new legislation that brings it into conformity with the recommendations and rulings of the Dispute Settlement Body (“DSB”) and its obligations under the WTO Agreement on the Application of Sanitary and Phytosanitary Measures (“SPS Agreement”). The EC therefore challenges the continued U.S. suspension of obligations and imposition of import duties in excess of bound rates on imports from the EC, the alleged U.S. “unilateral determination” that the new EC legislation is in violation of the EC's WTO obligations, and the alleged U.S. failure to have recourse to WTO dispute settlement proceedings. In particular, the EC asserts that by failing to discontinue suspension of obligations to the EC, the United States has breached its obligations under Articles I and II of the General Agreement on Tariffs and Trade 1994 (“GATT 1994”) and Articles 3.7, 21.5, 22.8 and 23.2(a) and (c) of the Understanding on Rules and Procedures Governing the Settlement of Disputes (“DSU”). USTR invites written comments from the public concerning the issues raised in this dispute.

DATES: Although USTR will accept any comments received during the course of the dispute settlement proceedings, comments should be submitted on or before April 1 to be assured of timely consideration by USTR.

ADDRESSES: Comments should be submitted (i) electronically, to FR0519@ustr.eop.gov, with “EC—Hormones (DS320)” in the subject line, or (ii) by fax, to Sandy McKinzy at (202) 395-3640, with a confirmation copy sent electronically to the address above, in accordance with the requirements for submission set out below.

FOR FURTHER INFORMATION CONTACT: Jay T. Taylor, Assistant General Counsel, Office of the United States Trade Representative, (202) 395-9583.

SUPPLEMENTARY INFORMATION: Section 127(b) of the Uruguay Round Agreements Act (“URAA”) (19 U.S.C. 3537(b)) requires that notice and opportunity for comment be provided after the United States submits or receives a request for the establishment of a WTO dispute settlement panel. Consistent with this obligation, USTR is providing notice that the establishment of a WTO dispute settlement panel has been requested pursuant to the DSU. The EC's request for the establishment of a panel may found at www.wto.org contained in a document designated as WT/DS320/6. Once a panel is established, such panel, which would hold its meetings in Geneva, Switzerland, would be expected to issue a report on its findings and recommendations within six to nine months after it is established.

Major Issues Raised by the EC

With respect to the claims of WTO-inconsistency, the EC's panel request refers to the following:

• the U.S. continued suspension of obligations and imposition of import duties in excess of bound rates on imports from the EC;

• the alleged U.S. “unilateral determination” that new EC legislation is in violation of obligations under the WTO Agreement; and

• the alleged failure of the United States to seek recourse to Article 21.5 of the DSU and to have recourse to, and abide by, the rules and procedures of the DSU.

Requirements for Submissions

Interested persons are invited to submit written comments concerning the issues raised in this dispute. Persons submitting comments may either send one copy by fax to Sandy McKinzy at (202) 395-3640, or transmit a copy electronically to FR0519@ustr.eop.gov, with “EC—Hormones (DS320)” in the subject line. For documents sent by fax, USTR requests that the submitter provide a confirmation copy electronically. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

Comments must be in English. A person requesting that information contained in a comment submitted by that person be treated as confidential business information must certify that such information is business confidential and would not customarily be released to the public by the submitter. Confidential business information must be clearly designated as such and the submission must be marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must clearly so designate the information or advice;

(2) Must clearly mark the material as “SUBMITTED IN CONFIDENCE” at the top and bottom of each page of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS320, EC—Hormones), may be made by calling the USTR Reading Room at (202) 395-6186. The USTR Reading Room is open to the public from 9:30 a.m. to 12 noon and 1 p.m. to 4 p.m., Monday through Friday.

Daniel E. Brinza,
Assistant United States Trade Representative for Monitoring and Enforcement.

[FR Doc. 05-3368 Filed 2-18-05; 8:45 am]

BILLING CODE 3190-W5-P